ENVIRONMENTAL PROTECTION AGENCY

[EPA-HQ-OAR-2016-0027; FRL-11136-01-OAR]

Proposed Information Collection Request; Comment Request; Information Collection Request (ICR) for On-Highway Motorcycle Certification and Compliance Program; EPA

AGENCY: Environmental Protection Agency (EPA).

ACTION: Notice.

SUMMARY: The Environmental Protection Agency (EPA) is planning to submit an information collection request (ICR), “Information Collection Request (ICR) for On-Highway Motorcycle Certification and Compliance Program” (EPA ICR Number 2535.03, OMB Control Number 2060-0710) to the Office of Management and Budget (OMB) for review and approval in accordance with the Paperwork Reduction Act. Before doing so, EPA is soliciting public comments on specific aspects of the proposed information collection as described below. This is a proposed extension of the ICR, which is currently approved through October 31, 2023. An Agency may not conduct or sponsor and a person is not required to respond to a collection of information unless it displays a currently valid OMB control number.

DATES: Comments must be submitted on or before September 29, 2023.

ADDRESSES: Submit your comments, referencing Docket ID No. EPA-HQ-OAR-2016-0027, online using www.regulations.gov (our preferred method), by email to a-and-r-Docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Julian Davis, Environmental Protection Agency, 2000 Traverwood, Ann Arbor, MI 48105; telephone number: (734) 214-4029; fax number: (734) 214-4869; email address: davis.julian@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under the Clean Air Act (42 U.S.C. 7521 et seq.) manufacturers and importers of on-highway motorcycles must have a certificate of conformity issued by EPA covering any vehicle they intend to offer for sale in the United States. A certificate of conformity represents that the respective vehicle conforms to all applicable emissions requirements. In issuing a certificate of conformity, EPA reviews vehicle information and emissions test data to determine if the required testing has been performed and the required emissions levels have been demonstrated. After a certificate of conformity has been issued, the Agency may request additional information to verify that the product continues to meet its certified emissions standards throughout its useful life.

Form Numbers:

Form title | New or previous | Current form No.
Highway Motorcycle HC+NOX Average Exhaust Emissions Model Year Report | Previous | 5900-339
Manufacturer Production Report for Engine/Equipment Manufacturers—Heavy-Duty, Nonroad, and Highway Motorcycles | Previous | 5900-90
List of Emissions Related Components | New
Catalyst Information | Previous | 5900-464
AECD Reporting Template | New

Respondents/affected entities: Entities potentially affected by this action are on-highway motorcycle manufacturers and importers.

Respondent's obligation to respond: Mandatory (40 CFR part 86).

Estimated number of respondents: 95 (total).

Frequency of response: Annual, unless otherwise specified under 40 CFR part 86, subpart E.

Total estimated burden: 5,832 hours (per year). Burden is defined at 5 CFR 1320.03(b).

Total estimated cost: $1,124,869 (per year), includes $31,998 annualized capital and $342,565 operation & maintenance costs.

Changes in estimates: There is an increase of 379 hours but a decrease of $63,760 in the total estimated cost from the previous ICR. This increase in hours but decrease in total estimated cost is primarily due to the inclusion of electric motorcycle manufacturers who must certify their engine families but are not subject to exhaust or evaporative emissions testing requirements.

Byron J. Bunker,
Director, Compliance Division, Office of Transportation and Air Quality.

[FR Doc. 2023-16193 Filed 7-28-23; 8:45 am]

BILLING CODE 6560-50-P